DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 10, 2009.

Interested persons are invited to submit written comments regarding the subject matter of the investigations to the Director, Division of Trade Adjustment Assistance, at the address shown below, not later than April 10, 2009.

The petitions filed in this case are available for inspection at the Office of the Director, Division of Trade Adjustment Assistance, Employment and Training Administration, U.S. Department of Labor, Room N-5428, 200 Constitution Avenue, NW., Washington, DC 20210.

Signed at Washington, DC, this 24th day of March 2009.
Linda G. Poole
Certifying Officer, Division of Trade Adjustment Assistance.

Appendix—TAA Petitions Instituted Between 3/2/09 and 3/6/09
TA-W | Subject firm (petitioners) | Location | Date of institution | Date of petition
65436 | Continental Automotive Systems US, Inc. (Comp) | Elkhart, IN | 03/02/09 | 02/26/09
65437B | Navistar, Inc. (UAW) | Indianapolis, IN | 03/02/09 | 02/26/09
65437A | Indianapolis Costing Corp. (UAW) | Indianapolis, IN | 03/02/09 | 02/26/09
65437 | Navistar, Inc. (UAW) | Indianapolis, IN | 03/02/09 | 02/26/09
65438 | Gulliver's Travels, Inc. (Wkrs) | Sarasota, FL | 03/02/09 | 02/27/09
65439 | Mazer Corporation (Wkrs) | Dayton, OH | 03/02/09 | 02/27/09
65440 | Fibermark, N.A. (Wkrs) | West Springfield, MA | 03/02/09 | 02/27/09
65441 | Triumph Apparel Corporation (Comp) | York, PA | 03/02/09 | 02/27/09
65442 | Freudenberg Nok (State) | Plymouth, MI | 03/02/09 | 02/27/09
65443 | Johnson Controls (Comp) | Columbia, TN | 03/02/09 | 02/11/09
65444 | Graphic Visual Solution, Inc. (Comp) | Greensboro, NC | 03/02/09 | 02/27/09
65445 | ASML (Wkrs) | Boise, ID | 03/02/09 | 02/25/09
65446 | GlaxoSmithKline (Wkrs) | Collegeville, PA | 03/02/09 | 02/27/09
65447 | BHP Billiton (Comp) | Miami, AZ | 03/02/09 | 02/27/09
65448 | K & K Screw Products, LLC (State) | East China, MI | 03/02/09 | 02/27/09
65449 | Kamin, LLC (Wkrs) | Sandersville, GA | 03/02/09 | 02/26/09
65450 | Akzo Nobel Coatings, Inc. (Wkrs) | High Point, NC | 03/02/09 | 02/23/09
65451 | Reynolds Food Packaging (Union) | Grove City, PA | 03/02/09 | 02/02/09
65452 | Newport Precision, Inc. (Wkrs) | Newport, TN | 03/03/09 | 03/02/09
65453 | Tokyo Electron Massachusetts (State) | Beverly, MA | 03/03/09 | 02/25/09
65454 | Mid-Columbia Lumber and Box (State) | Madras, OR | 03/03/09 | 03/02/09
65455 | Graphic Visual Solutions, Inc. (Comp) | Greensboro, NC | 03/03/09 | 02/27/09
65456 | Silver King Refrigeration, Inc. (State) | Plymouth, MN | 03/03/09 | 03/02/09
65457 | American Standard Brands (Wkrs) | Mansfield, OH | 03/03/09 | 02/25/09
65458 | Diversified Machine, Inc. (Comp) | Milwaukee, WI | 03/03/09 | 02/27/09
65459 | Carbone of America Industries Corp. (IUECWA) | St. Marys, PA | 03/03/09 | 03/02/09
65460 | Flabeg Corporation (USW) | Brackenridge, PA | 03/03/09 | 02/27/09
65461 | Wood Grain Millworks, Inc. (State) | Prineville, OR | 03/03/09 | 03/02/09
65462 | Sekisui Voltek, LLC (Wkrs) | Coldwater, MI | 03/03/09 | 03/02/09
65463 | Century Land and Timber, Inc. (Comp) | Greenville, NC | 03/04/09 | 02/27/09
65464 | Delphi Steering (Comp) | Saginaw, MI | 03/04/09 | 02/26/09
65465 | Pinehurst Manufacturing, Inc. (Comp) | Albermarle, NC | 03/04/09 | 03/03/09
65466 | Conoco-Phillips (State) | Ponca City, OK | 03/04/09 | 03/03/09
65467 | Kenworth Truck Company (PACCAR, Inc.) (IAMAW) | Renton, WA | 03/04/09 | 03/02/09
65468 | Utah Stamping Company (Wkrs) | Clearfield, UT | 03/04/09 | 03/03/09
65469 | The Hershey Company (Wkrs) | Hershey, PA | 03/04/09 | 02/05/09
65470 | Fluidmaster, Inc. (Comp) | San Juan Capistrano, CA | 03/04/09 | 03/03/09
65471 | Nabors Drilling USA, LP (State) | Fruita, CO | 03/04/09 | 02/27/09
65472 | Lincoln Industrial Corporation (UAW) | St. Louis, MO | 03/04/09 | 02/26/09
65473 | Bakers Pride Oven Company, Inc. (Comp) | New Rochelle, NY | 03/04/09 | 02/25/09
65474 | Smart Apparel (US) Inc. (18951) | Quakertown, PA | 03/04/09 | 03/04/09
65475 | Mohawk Industries, Inc. (Wkrs) | Dillon, SC | 03/04/09 | 02/04/09
65476 | Valentine Tool and Stamping, Inc. (Comp) | Norton, MA | 03/04/09 | 03/03/09
65477 | Osborne and Osborne Wood Products (Wkrs) | Galax, VA | 03/04/09 | 02/19/09
65478 | Metaldyne (Comp) | Whitsett, NC | 03/04/09 | 03/03/09
65479 | Vaagen Bros. Lumber, Inc. (Comp) | Colville, WA | 03/04/09 | 03/04/09
65480 | Tech Group (State) | Van Buren, AR | 03/04/09 | 03/03/09
65481 | IM Flash Technologies, LLC (Wkrs) | Lehi, UT | 03/04/09 | 03/02/09
65482 | Northeast Pellets, LLC (Comp) | Ashland, ME | 03/04/09 | 02/27/09
65483 | Viasystems (Comp) | Newberry, SC | 03/04/09 | 03/03/09
65484 | Lineage Power (Comp) | Tustin, CA | 03/04/09 | 02/26/09
65485 | Sapa HE Tubing (USW) | Louisville, KY | 03/04/09 | 03/03/09
65486 | Ortho Pharmaceutical (State) | Manati, PR | 03/04/09 | 03/04/09
65487 | Boralex Sherman, LLC (Comp) | Stacyville, ME | 03/04/09 | 03/02/09
65488 | Great Lakes Recovery Systems (USW) | Ecorse, MI | 03/04/09 | 02/18/09
65489 | Tecumseh Products Company (Wkrs) | Paris, TN | 03/04/09 | 02/17/09
65490 | Mold-Tech Michigan (CWA) | Fraser, MI | 03/04/09 | 02/19/09
65491 | Mazer Corporation (Wkrs) | Dayton, OH | 03/04/09 | 02/27/09
65492 | Kimball Office (Wkrs) | Borden, IN | 03/05/09 | 02/13/09
65493 | Plains Cotton Cooperative Association (Comp) | Lubbock, TX | 03/05/09 | 02/11/09
65494 | Mega Brands (State) | Livingston, NJ | 03/05/09 | 03/04/09
65495 | Gerber Technology and Gerber Service (Comp) | New York, NY | 03/05/09 | 03/04/09
65496 | Ovonic Energy Products, Inc. (IUECWA) | Springboro, OH | 03/05/09 | 03/05/09
65497 | Masterbrand (Wkrs) | Littlestown, PA | 03/05/09 | 03/04/09
65498 | Mine Safety Appliances (Wkrs) | Callery, PA | 03/05/09 | 02/23/09
65499 | Celanese (Wkrs) | Pampa, TX | 03/05/09 | 03/03/09
65500 | Plum Creek MDF, Inc. (Comp) | Columbia Falls, MT | 03/05/09 | 03/04/09
65501 | R. H. Donnelley, Inc. (Wkrs) | Dunmore, PA | 03/05/09 | 02/20/09
65502 | Gerber Coburn and Gerber Service (Comp) | Fort Gibson, OK | 03/06/09 | 03/02/09
65503 | Gerber Technology (Comp) | Tolland, CT | 03/06/09 | 03/02/09
65504 | Telephan Videocom Services (Comp) | New Castle, DE | 03/06/09 | 03/01/09
65505 | Weiler Corporation (Comp) | Cresco, PA | 03/06/09 | 03/04/09
65506 | 1928 Jewelry Company (Wkrs) | Burbank, CA | 03/06/09 | 01/29/09
65507 | Arcelor Mittal (Wkrs) | Marion, OH | 03/06/09 | 03/04/09
65508 | Camp-Hill Corporation (Wkrs) | McKeesport, PA | 03/06/09 | 03/05/09
65509 | Moose River Lumber Company, Inc. (Comp) | Moose River, ME | 03/06/09 | 03/05/09
65510 | Bemis Contract Group (Wkrs) | Lenoir, NC | 03/06/09 | 03/05/09
65511 | FMC Manufacturing, LLC (Wkrs) | Monmouth, IL | 03/06/09 | 03/05/09
65512 | AK Steel Corporation (IAMAW) | West Chester, OH | 03/06/09 | 03/05/09
65513 | Tyrone Mining, LLC (Wkrs) | Tyrone, NM | 03/06/09 | 02/27/09

[FR Doc. E9-7097 Filed 3-30-09; 8:45 am]

BILLING CODE 4510-FN-P